GENERAL SERVICES ADMINISTRATION

[Notice-MVAC 2024-01; Docket No. 2024-0002; Sequence No 16]

Notice of Inquiry Regarding PFAS in Products

AGENCY: Office of Acquisition Policy, General Services Administration.

ACTION: Notice; request for information (RFI).

SUMMARY: As part of its on-going commitment to advancing sustainable acquisition, the General Services Administration (GSA) is exploring opportunities to reduce or eliminate potential per-and polyfluoroalkyl substances (PFAS) chemicals with the intent to reduce exposure from products offered to the Government through GSA's contract solutions. GSA is publishing this notice to request comments to help us understand potential areas for focus, and to identify potential unintended negative impacts. At this time, GSA has not determined whether or not it should work towards a notice of proposed rule-making to address this topic.

DATES: Interested parties should submit written comments to the Regulatory Secretariat as noted below on or before June 17, 2024.

ADDRESSES: Submit comments in response to this inquiry to: Regulations.gov: https://www.regulations.gov. Submit comments via the Federal eRulemaking portal by searching for “GSA PFAS Inquiry”. Follow the instructions provided at the “Comment Now” screen. Please include your name, company name (if any), and “GSA PFAS Inquiry” on your attached document.

Instructions: Comments received generally will be posted without change to https://www.regulations.gov, including any personal and/or business confidential information provided. To confirm receipt of your comment(s), please check https://www.regulations.gov, approximately two to three days after submission to verify posting.

FOR FURTHER INFORMATION CONTACT: For clarification of content, contact Ms. Adina Torberntsson, Procurement Analyst, at gsarpolicy@gsa.gov or 720-475-0568. For information pertaining to status or publication schedules, contact the Regulatory Secretariat at GSARegSec@gsa.gov or 202-501-4755. Please cite GSA PFAS Inquiry.

SUPPLEMENTARY INFORMATION:

I. Background

Per- and polyfluoroalkyl substances, known as PFAS, are a widely used class of chemicals which break down very slowly over time. Since PFAS chemicals are slow to break down, and have been used in several manufacturing processes, they are ubiquitously found throughout the environment. PFAS has been detected in air, water, soil, and even human blood. Several studies have linked PFAS to health risks and environmental risks.¹ To help reduce the risk of further exposure to these chemicals, the Government can work towards reducing PFAS containing products through procurement.

¹ See EPA website on PFAS https://www.epa.gov/pfas/pfas-explained.

The GSA Acquisition Policy Federal Advisory Committee (GAP FAC) was established to provide recommendations specific to GSA to drive regulatory, policy, and process changes in acquisition. The GAP FAC recommended that GSA should move forward with reducing PFAS through government procurement and that GSA should consider product categories that have already been identified by other state and federal programs, specifically: furniture, carpets, rugs, curtains, cookware, food service ware, food packaging materials, cutlery, dishware, paints, cleaning products, stain and water resistant treatments, flooring, and floor care products (“Recommended Categories”).

While much has been learned by connecting with government experts and the GSA GAP FAC, GSA would like to similarly learn from industry partners.

II. Purpose

In 2021, Executive Order 14057 ² outlined an approach to catalyzing clean energy industries and jobs through federal sustainability. The implementing instructions (OMB Memo M-22-06 ³) directed federal purchasers to prioritize the procurement of products that do not contain PFAS. This inquiry is an important step towards implementing these instructions by learning more on how to successfully reduce or eliminate potential PFAS exposure through products procured by the Government. GSA has been engaged in a PFAS and product working group to better understand where PFAS is found in the marketplace.

² E.O. 14057 Catalyzing Clean Energy Industries and Jobs Through Federal Sustainability.

³ OMB Memo M-22-06.

GSA invites comment on the issues discussed in this notice to help inform future rulemaking on how to best reduce federal procurement of products that either intentionally or unintentionally contain PFAS while minimizing any unnecessary burdens on our industry and logistics partners.

III. Request for Operational Information

GSA seeks responses to the questions listed below. Please explain the reasoning behind your responses in detail. Also, please provide any data, studies, or other evidence that supports your response.

In your response please include your contact information, your business socio-economic category if applicable, and a little bit about your business (such as if you represent a manufacturer, distributor, reseller, or other).

To help GSA review comments efficiently, identify the question to which you are responding by its associated number and letter (e.g., “III.3a”) or whether you are commenting on a topic not listed below.

1. Aside from a product's ecolabel, are there other ways to identify if a product contains PFAS?

2. Considering GSA's goal to reduce products containing PFAS, what product categories have the greatest opportunity for GSA to reduce or eliminate PFAS exposure?

3. What should GSA consider in terms of defining if a product has reduced or eliminated PFAS?

4. What product areas should GSA exclude at this time and why?

5. Are there unintended impacts GSA should anticipate?

a. If so, what mitigation strategies should GSA consider?

6. What is the potential impact on domestic manufacturing if GSA establishes PFAS reduction requirements that reduce or prohibit PFAS, or eliminate them entirely?

7. What limitations exist for you to identify PFAS in the products that you offer?

8. Would your answers to questions #6 and #7 be different if only intentionally added PFAS (or when a PFAS containing chemical is included in a product that serves an intended function in the product) was the focus of this inquiry?

9. What is the potential impact on small businesses including socio-economic small businesses if GSA establishes PFAS reduction requirements or prohibited PFAS entirely?

10. How long should GSA give contractors to reduce PFAS?

11. What type of exception process should GSA consider?

12. What information is readily available for you to determine if your products contain PFAS chemicals?

a. If there is not information readily available, what type of tools would help you determine if PFAS is present (e.g., supply chain mapping, specific ecolabels, etc.)

13. Would it be more impactful for GSA to target a specific product type or chemical signature in products to meet the goal of reducing or eliminating PFAS?

14. Are there existing industry manufacturing standards or oversight that address PFAS reduction or elimination?

IV. Request for Economic Data and Consumer Research

Aside from the questions listed above, GSA also seeks to better understand the bigger picture regarding what industry changes are in fact feasible from an economic perspective. GSA seeks economic data and consumer research to help increase its understanding of the market. In your response please consider some of the questions highlighted below. You do not have to answer all of these in your response. The intent of the following are simply things to consider.

1. What will the estimated costs be to either reduce or eliminate PFAS within your industry?

2. Is there a large price differential between a product that contains PFAS and an alternative product?

3. How would a reduction or elimination of PFAS containing products impact your company's ability to compete?

4. To what extent is your industry already moving to better understand and reduce the presence of PFAS in products as a result of broader market forces or policies being considered or enacted by entities other than the federal government?

Jeffrey A. Koses,
Senior Procurement Executive, Office of Governmentwide Policy, U.S. General Services Administration.

[FR Doc. 2024-07927 Filed 4-15-24; 8:45 am]

BILLING CODE 6820-61-P